INTERNATIONAL TRADE COMMISSION

[Investigation Nos. 701-TA-513 and 731-TA-1249 (Final)]

Sugar From Mexico; Revised Schedule for the Subject Investigations

AGENCY: United States International Trade Commission.

ACTION: Notice.

DATES: Effective Date: May 11, 2015.

FOR FURTHER INFORMATION CONTACT: Amy Sherman (202-205-3289), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On November 3, 2014, the Commission established a schedule for the conduct of the final phase of the subject investigations (79 FR 75591, December 18, 2014). On December 19, 2014, the Department of Commerce suspended the antidumping and countervailing duty investigations on sugar from Mexico (79 FR 78039, 78044, December 29, 2014). Subsequently, the Department of Commerce received timely requests to continue the antidumping and countervailing duty investigations on sugar from Mexico and resumed its investigations on May 4, 2015 (80 FR 25278, May 4, 2015). The Commission, therefore, is revising its schedule to conform with Commerce's new schedule.

The Commission's new schedule for the investigation is as follows. The prehearing staff report will be placed in the nonpublic record on August 28, 2015. The deadline for filing prehearing briefs is September 4, 2015. Requests to appear at the hearing must be filed with the Secretary to the Commission not later than September 11, 2015. The prehearing conference will be held at the U.S. International Trade Commission Building on September 14, 2015, if deemed necessary. The hearing will be held at the U.S. International Trade Commission Building at 9:30 a.m. on September 16, 2015. The deadline for filing posthearing briefs is September 23, 2015. The Commission will make its final release of information on October 14, 2015; and final party comments are due on October 16, 2015.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: May 12, 2015.
Lisa R. Barton,
Secretary to the Commission.

[FR Doc. 2015-11777 Filed 5-14-15; 8:45 am]

BILLING CODE 7020-02-P